DEPARTMENT OF ENERGY

Federal Energy Regulatory Commission

Combined Notice of Filings #2

February 8, 2006.

Take notice that the Commission received the following electric rate filings.

Docket Numbers: ER01-316-019.

Applicants: ISO New England Inc.

Description: ISO New England submits its Index of Customers for the fourth quarter of 2005 under the ISO's FERC Tariff for Transmission Dispatch & Power Administration Services.

Filed Date: 01/31/2006.

Accession Number: 20060203-0413.

Comment Date: 5 p.m. Eastern Time on Tuesday, February 21, 2006.

Docket Numbers: ER02-1884-003.

Applicants: Waterside Power, L.L.C.

Description: Waterside Power, LLC submits a compliance filing to conform its tariff to market behavior rule 2(b) pursuant to order issued on 1/19/06.

Filed Date: 02/01/2006.

Accession Number: 20060206-0168.

Comment Date: 5 p.m. Eastern Time on Wednesday, February 22, 2006.

Docket Numbers: ER05-205-001.

Applicants: Southern California Edison Company.

Description: Southern California Edison Co submits an unexecuted Large Generator Interconnection Agreement with the City of Corona, California.

Filed Date: 02/01/2006.

Accession Number: 20060202-0200.

Comment Date: 5 p.m. Eastern Time on Wednesday, February 22, 2006.

Docket Numbers: ER06-357-001.

Applicants: Cleco Marketing & Trading LLC.

Description: Cleco Marketing and Trading LLC submits a Notice of Termination of its Market Based wholesale sales, Rate Schedule FERC No. 1.

Filed Date: 02/01/2006.

Accession Number: 20060206-0169.

Comment Date: 5 p.m. Eastern Time on Wednesday, February 22, 2006.

Docket Numbers: ER06-461-001.

Applicants: Velocity Futures, L.P.

Description: Velocity Futures amends its pending Rate Schedule FERC No. 1.

Filed Date: 02/01/2006.

Accession Number: 20060206-0166.

Comment Date: 5 p.m. Eastern Time on Wednesday, February 22, 2006.

Docket Numbers: ER06-590-000.

Applicants: New England Power Pool.

Description: New England Power Pool Participants Committee submits transmittal letter along with counterpart signature pages of the New England Power Pool Agreement dated 9/1/71.

Filed Date: 02/01/2006.

Accession Number: 20060202-0197.

Comment Date: 5 p.m. Eastern Time on Wednesday, February 22, 2006.

Docket Numbers: ER06-591-000.

Applicants: Carolina Power & Light Company.

Description: Carolina Power & Light Co dba Progress Energy Carolinas, Inc submits a Large Generator Interconnection Agreement with Craven County Wood Energy Limited Partnership.

Filed Date: 02/01/2006.

Accession Number: 20060202-0196.

Comment Date: 5 p.m. Eastern Time on Wednesday, February 22, 2006.

Docket Numbers: ER06-593-000.

Applicants: Southwest Power Pool, Inc.

Description: Southwest Power Pool, Inc's executed agreement to Sponsor Facilities Upgrades with SPP, Redbud Energy, LP & Oklahoma Gas & Electric Co.

Filed Date: 02/01/2006.

Accession Number: 20060203-0424.

Comment Date: 5 p.m. Eastern Time on Wednesday, February 22, 2006.

Docket Numbers: ER06-594-000.

Applicants: PJM Interconnection L.L.C.

Description: PJM Interconnection, LLC submits revision to Attachment Q, PJM Credit Policy, of the PJM OATT.

Filed Date: 02/01/2006.

Accession Number: 20060203-0425.

Comment Date: 5 p.m. Eastern Time on Wednesday, February 22, 2006.

Docket Numbers: ER06-595-000.

Applicants: American Electric Power Service Corporation.

Description: The American Electric Power Service Corp, as designated agent for AEP Operating Companies submits for filing & requests acceptance of an interconnection & local delivery service agreement with City of ST Clairsville, OH.

Filed Date: 02/01/2006.

Accession Number: 20060203-0426.

Comment Date: 5 p.m. Eastern Time on Wednesday, February 22, 2006.

Docket Numbers: ER06-596-000.

Applicants: American Electric Power Service Corporation.

Description: The American Electric Power Service Corp as designated agent for AEP Operating Companies submits for filing and requests acceptance of an interconnection and local delivery service agreement with Bryan, OH.

Filed Date: 02/01/2006.

Accession Number: 20060203-0427.

Comment Date: 5 p.m. Eastern Time on Wednesday, February 22, 2006.

Docket Numbers: ER06-597-000.

Applicants: American Electric Power Services Corporation.

Description: The American Electric Power Service Corp as designated agent for AEP Operating Companies submits for filing & requests acceptance of an interconnection & local delivery service agreement with Village of Ohio City, OH.

Filed Date: 02/01/2006.

Accession Number: 20060203-0428.

Comment Date: 5 p.m. Eastern Time on Wednesday, February 22, 2006.

Docket Numbers: ER06-598-000.

Applicants: American Electric Power Services Corporation.

Description: The American Electric Power Service Corp as designated agent for AEP Operating Companies submits for filing & requests acceptance of an interconnection & local delivery service agreement with Village of Arcadia, OH.

Filed Date: 02/01/2006.

Accession Number: 20060203-0429.

Comment Date: 5 p.m. Eastern Time on Wednesday, February 22, 2006.

Docket Numbers: ER06-603-000; ER06-466-000.

Applicants: El Paso Electric Company.

Description: El Paso Electric Co submits executed non-conforming service agreements with Tucson Electric Power Co.

Filed Date: 02/01/2006.

Accession Number: 20060206-0177.

Comment Date: 5 p.m. Eastern Time on Wednesday, February 22, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-2188 Filed 2-15-06; 8:45 am]

BILLING CODE 6717-01-P